DEPARTMENT OF TRANSPORTATION

Federal Aviation Administration

14 CFR Part 97

[Docket No. 30862; Amdt. No. 3497]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 1, 2012. The compliance date for each SIAP, associated Takeoff Minimums, and ODP is specified in the amendatory provisions.

The incorporation by reference of certain publications listed in the regulations is approved by the Director of the Federal Register as of October 1, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on September 14, 2012.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 18 OCTOBER 2012

New Iberia, LA, Acadiana Rgnl, RNAV (GPS) RWY 16, Orig-B

New Iberia, LA, Acadiana Rgnl, RNAV (GPS) RWY 34, Orig-A

Worcester, MA, Worcester Rgnl, VOR/DME RWY 33, Amdt 1A

Omaha, NE, Eppley Airfield, RNAV (GPS) Y RWY 14L, Amdt 1B

Cincinnati, OH, Cincinnati Muni Airport Lunken Field, RNAV (GPS) RWY 21L, Amdt 1A

Wausau, WI, Wausau Downtown, NDB-B, Orig-A, CANCELED

Wausau, WI, Wausau Downtown, RNAV (GPS) RWY 13, Amdt 1

Wausau, WI, Wausau Downtown, RNAV (GPS) RWY 31, Orig

Wausau, WI, Wausau Downtown, Takeoff Minimums and Obstacle DP, Amdt 6

Wausau, WI, Wausau Downtown, VOR OR GPS-A, Amdt 18A, CANCELED

Effective 15 NOVEMBER 2012

Toksook Bay, AK, Toksook Bay, RNAV (GPS) RWY 34, Amdt 3

Sacramento, CA, Sacramento Intl, RNAV (GPS) Y RWY 34L, Amdt 1A

Sacramento, CA, Sacramento Intl, RNAV (GPS) Y RWY 34R, Orig-D

Sacramento, CA, Sacramento Intl, RNAV (RNP) Z RWY 16L, Orig

Sacramento, CA, Sacramento Intl, RNAV (RNP) Z RWY 16R, Orig

Sacramento, CA, Sacramento Intl, RNAV (RNP) Z RWY 34L, Orig

Sacramento, CA, Sacramento Intl, RNAV (RNP) Z RWY 34R, Orig

Torrance, CA, Zamperini Field, RNAV (GPS) RWY 11L, Orig

Torrance, CA, Zamperini Field, RNAV (GPS) RWY 29R, Orig

Denver, CO, Centennial, Takeoff Minimums and Obstacle DP, Amdt 5

Denver, CO, Denver Intl, ILS OR LOC RWY 7, Amdt 3

Denver, CO, Denver Intl, ILS OR LOC RWY 8, Amdt 5

Denver, CO, Denver Intl, ILS OR LOC RWY 16L, Amdt 3

Denver, CO, Denver Intl, ILS OR LOC RWY 16R, Amdt 1

Denver, CO, Denver Intl, ILS OR LOC RWY 17L, Amdt 4

Denver, CO, Denver Intl, ILS OR LOC RWY 17R, Amdt 3

Denver, CO, Denver Intl, ILS OR LOC RWY 25, Amdt 3

Denver, CO, Denver Intl, ILS OR LOC RWY 26, Amdt 3

Denver, CO, Denver Intl, RNAV (GPS) Y RWY 7, Amdt 1

Denver, CO, Denver Intl, RNAV (GPS) Y RWY 8, Amdt 1

Denver, CO, Denver Intl, RNAV (GPS) Y RWY 16R, Amdt 1

Denver, CO, Denver Intl, RNAV (GPS) Y RWY 17L, Amdt 1

Denver, CO, Denver Intl, RNAV (GPS) Y RWY 17R, Amdt 1

Denver, CO, Denver Intl, RNAV (GPS) Y RWY 25, Amdt 1

Denver, CO, Denver Intl, RNAV (GPS) Y RWY 26, Amdt 1

Denver, CO, Denver Intl, Takeoff Minimums and Obstacle DP, Amdt 3

Denver, CO, Front Range, ILS OR LOC RWY 17, Amdt 1

Denver, CO, Front Range, ILS OR LOC RWY 26, Amdt 5

Denver, CO, Front Range, ILS OR LOC RWY 35, Amdt 1

Denver, CO, Front Range, NDB RWY 26, Amdt 5

Denver, CO, Front Range, RNAV (GPS) RWY 17, Amdt 1

Denver, CO, Front Range, RNAV (GPS) RWY 26, Amdt 1

Denver, CO, Front Range, RNAV (GPS) RWY 35, Amdt 1

Denver, CO, Front Range, Takeoff Minimums and Obstacle DP, Amdt 3

Denver, CO, Rocky Mountain Metropolitan, ILS OR LOC Y RWY 29R, Amdt 14A

Denver, CO, Rocky Mountain Metropolitan, ILS OR LOC Z RWY 29R, Orig-A

Denver, CO, Rocky Mountain Metropolitan, RNAV (GPS) RWY 29L, Amdt 1A

Denver, CO, Rocky Mountain Metropolitan, RNAV (GPS) RWY 29R, Amdt 1A

Denver, CO, Rocky Mountain Metropolitan, Takeoff Minimums and Obstacle DP, Amdt 5

Hayden, CO, Yampa Valley, RNAV (GPS) RWY 28, Amdt 2A

Rifle, CO, Garfield County Rgnl, ILS RWY 26, Amdt 3

Rifle, CO, Garfield County Rgnl, Takeoff Minimums and Obstacle DP, Amdt 10

Rifle, CO, Garfield County Rgnl, VOR/DME-C, Amdt 3

Atlanta, GA, Cobb County-McCollum Field, ILS OR LOC RWY 27, Amdt 4B

Atlanta, GA, Cobb County-McCollum Field, RNAV (GPS) RWY 27, Amdt 4A

Atlanta, GA, Fulton County Airport-Brown Field, ILS OR LOC RWY 8, Amdt 17

Atlanta, GA, Fulton County Airport-Brown Field, NDB RWY 8, Amdt 4

Atlanta, GA, Fulton County Airport-Brown Field, VOR-A, Amdt 1

Atlanta, GA, Hartsfield—Jackson Atlanta Intl, ILS OR LOC RWY 8L, ILS RWY 8L (CAT II), ILS RWY 8L (CAT III), Amdt 3D

Atlanta, GA, Hartsfield—Jackson Atlanta Intl, ILS OR LOC RWY 8R, Amdt 59D

Atlanta, GA, Hartsfield—Jackson Atlanta Intl, ILS OR LOC RWY 9L, Amdt 8D

Atlanta, GA, Hartsfield—Jackson Atlanta Intl, ILS OR LOC RWY 9R, ILS RWY 9R (CAT II), ILS RWY 9R (CAT III), Amdt 17E

Atlanta, GA, Hartsfield—Jackson Atlanta Intl, ILS OR LOC RWY 10, ILS RWY 10 (SA CAT I), ILS RWY 10 (CAT II), ILS RWY 10 (CAT III), Amdt 2B

Atlanta, GA, Hartsfield—Jackson Atlanta Intl, ILS OR LOC RWY 26L, Amdt 19D

Atlanta, GA, Hartsfield—Jackson Atlanta Intl, ILS OR LOC RWY 26R, ILS RWY 26R (SA CAT I), ILS RWY 26R (SA CAT II), Amdt 5B

Atlanta, GA, Hartsfield—Jackson Atlanta Intl, ILS OR LOC RWY 27L, ILS RWY 27L (CAT II), Amdt 16D

Atlanta, GA, Hartsfield—Jackson Atlanta Intl, ILS OR LOC RWY 27R, Amdt 4C

Atlanta, GA, Hartsfield—Jackson Atlanta Intl, ILS OR LOC RWY 28, ILS RWY 28 (SA CAT I), ILS RWY 28 (CAT II), Amdt 2B

Atlanta, GA, Hartsfield—Jackson Atlanta Intl, ILS PRM RWY 8L, ILS PRM RWY 8L (CAT II), ILS PRM RWY 8L (CAT III) (SIMULTANEOUS CLOSE PARALLEL), Orig-D

Atlanta, GA, Hartsfield—Jackson Atlanta Intl, ILS PRM RWY 8R (SIMULTANEOUS CLOSE PARALLEL), Orig-C

Atlanta, GA, Hartsfield—Jackson Atlanta Intl, ILS PRM RWY 9L (SIMULTANEOUS CLOSE PARALLEL), Orig-C

Atlanta, GA, Hartsfield—Jackson Atlanta Intl, ILS PRM RWY 9R, ILS PRM RWY 9R (CAT II), ILS PRM RWY 9R (CAT III) (SIMULTANEOUS CLOSE PARALLEL), Orig-D

Atlanta, GA, Hartsfield—Jackson Atlanta Intl, ILS PRM RWY 10, ILS PRM RWY 10 (CAT II), ILS PRM RWY 10 (CAT III) (SIMULTANOUS CLOSE PARALLEL), Amdt 2A

Atlanta, GA, Hartsfield—Jackson Atlanta Intl, ILS PRM RWY 26L (SIMULTANEOUS CLOSE PARALLEL), Orig-C

Atlanta, GA, Hartsfield—Jackson Atlanta Intl, ILS PRM RWY 26R, ILS PRM RWY 26R (SA CAT I), ILS PRM RWY 26R (SA CAT II) (SIMULTANEOUS CLOSE PARALLEL), Amdt 1B

Atlanta, GA, Hartsfield—Jackson Atlanta Intl, ILS PRM RWY 27L, ILS PRM RWY 27L (CAT II) (SIMULTANEOUS CLOSE PARALLEL), Amdt 1B

Atlanta, GA, Hartsfield—Jackson Atlanta Intl, ILS PRM RWY 27R (SIMULTANEOUS CLOSE PARALLEL), Orig-B

Atlanta, GA, Hartsfield—Jackson Atlanta Intl, ILS PRM RWY 28, ILS PRM RWY 28 (CAT II) (SIMULTANEOUS CLOSE PARALLEL), Amdt 2A

Atlanta, GA, Hartsfield—Jackson Atlanta Intl, RNAV (GPS) Y RWY 8L, Amdt 2B

Atlanta, GA, Hartsfield—Jackson Atlanta Intl, RNAV (GPS) Y RWY 8R, Amdt 2B

Atlanta, GA, Hartsfield—Jackson Atlanta Intl, RNAV (GPS) Y RWY 9L, Amdt 2B

Atlanta, GA, Hartsfield—Jackson Atlanta Intl, RNAV (GPS) Y RWY 9R, Amdt 2B

Atlanta, GA, Hartsfield—Jackson Atlanta Intl, RNAV (GPS) Y RWY 10, Amdt 2B

Atlanta, GA, Hartsfield—Jackson Atlanta Intl, RNAV (GPS) Y RWY 26L, Amdt 2B

Atlanta, GA, Hartsfield—Jackson Atlanta Intl, RNAV (GPS) Y RWY 26R, Amdt 2B

Atlanta, GA, Hartsfield—Jackson Atlanta Intl, RNAV (GPS) Y RWY 27L, Amdt 3B

Atlanta, GA, Hartsfield—Jackson Atlanta Intl, RNAV (GPS) Y RWY 27R, Amdt 2B

Atlanta, GA, Hartsfield—Jackson Atlanta Intl, RNAV (GPS) Y RWY 28, Amdt 2B

Atlanta, GA, Hartsfield—Jackson Atlanta Intl, RNAV (RNP) Z RWY 8L, Orig-D

Atlanta, GA, Hartsfield—Jackson Atlanta Intl, RNAV (RNP) Z RWY 8R, Orig-D

Atlanta, GA, Hartsfield—Jackson Atlanta Intl, RNAV (RNP) Z RWY 9L, Orig-D

Atlanta, GA, Hartsfield—Jackson Atlanta Intl, RNAV (RNP) Z RWY 9R, Orig-D

Atlanta, GA, Hartsfield—Jackson Atlanta Intl, RNAV (RNP) Z RWY 10, Amdt 1B

Atlanta, GA, Hartsfield—Jackson Atlanta Intl, RNAV (RNP) Z RWY 26L, Orig-D

Atlanta, GA, Hartsfield—Jackson Atlanta Intl, RNAV (RNP) Z RWY 26R, Orig-D

Atlanta, GA, Hartsfield—Jackson Atlanta Intl, RNAV (RNP) Z RWY 27L, Amdt 1C

Atlanta, GA, Hartsfield—Jackson Atlanta Intl, RNAV (RNP) Z RWY 27R, Orig-D

Atlanta, GA, Hartsfield—Jackson Atlanta Intl, RNAV (RNP) Z RWY 28, Amdt 1B

Perry, GA, Perry-Houston County, NDB RWY 36, Amdt 3A, CANCELED

Carroll, IA, Arthur N Neu, RNAV (GPS) RWY 13, Amdt 1

Carroll, IA, Arthur N Neu, RNAV (GPS) RWY 31, Amdt 1

Carroll, IA, Arthur N Neu, Takeoff Minimums and Obstacle DP, Amdt 1

Olathe, KS, New Century Aircenter, Takeoff Minimums and Obstacle DP, Amdt 1

Owensboro, KY, Owensboro-Daviess County, ILS OR LOC RWY 36, Amdt 13

Richmond, KY, Madison, RNAV (GPS) RWY 18, Amdt 1

Richmond, KY, Madison, RNAV (GPS) RWY 36, Amdt 1

Richmond, KY, Madison, Takeoff Minimums and Obstacle DP, Amdt 1

Richmond, KY, Madison, VOR/DME RWY 18, Amdt 7

Great Barrington, MA, Walter J. Koladza, RNAV (GPS)-B, Orig

Baltimore, MD, Baltimore/Washington Intl Thurgood Marshall, ILS OR LOC RWY 15L, Amdt 3

Baltimore, MD, Baltimore/Washington Intl Thurgood Marshall, ILS OR LOC RWY 33R, Amdt 2

Baltimore, MD, Baltimore/Washington Intl Thurgood Marshall, RNAV (GPS) RWY 15L, Amdt 3

Baltimore, MD, Baltimore/Washington Intl Thurgood Marshall, RNAV (GPS) RWY 33R, Amdt 3

Bowie, MD, Freeway, RNAV (GPS) RWY 18, Amdt 1

Bowie, MD, Freeway, RNAV (GPS) RWY 36, Amdt 1

Waterville, ME, Waterville Robert LaFleur, VOR/DME OR GPS RWY 5, Amdt 7B, CANCELED

Moorhead, MN, Moorhead Muni, RNAV (GPS) RWY 30, Amdt 1

Pinecreek, MN, Piney Pinecreek Border, NDB RWY 33, Amdt 1

Pinecreek, MN, Piney Pinecreek Border, RNAV (GPS) RWY 15, Orig

Pinecreek, MN, Piney Pinecreek Border, RNAV (GPS) RWY 33, Orig

Pinecreek, MN, Piney Pinecreek Border, Takeoff Minimums and Obstacle DP, Orig

Kansas City, MO, Charles B. Wheeler Downtown, Takeoff Minimums and Obstacle DP, Amdt 3A

St. Joseph, MO, Rosecrans Memorial, Takeoff Minimums and Obstacle DP, Amdt 7

Bozeman, MT, Bozeman Yellowstone Intl, RNAV (GPS)-A, Amdt 2A

Bozeman, MT, Bozeman Yellowstone Intl, RNAV (GPS) Y RWY 12, Orig-A

Bozeman, MT, Bozeman Yellowstone Intl, RNAV (RNP) RWY 30, Orig-B

Bozeman, MT, Bozeman Yellowstone Intl, RNAV (RNP) Z RWY 12, Orig-B

Bozeman, MT, Bozeman Yellowstone Intl, Takeoff Minimums and Obstacle DP, Amdt 4A

Bozeman, MT, Bozeman Yellowstone Intl, VOR RWY 12, Amdt 15A

Bozeman, MT, Bozeman Yellowstone Intl, VOR/DME RWY 12, Amdt 4A

New Bern, NC, Coastal Carolina Regional, Takeoff Minimums and Obstacle DP, Amdt 4

Grant, NE, Grant Muni, VOR/DME RWY 15, Amdt 2

Ogallala, NE, Searle Field, VOR RWY 8, Amdt 6

Ogallala, NE, Searle Field, VOR RWY 26, Amdt 6

Ogallala, NE, Searle Field, VOR/DME RWY 8, Amdt 1

Ogallala, NE, Searle Field, VOR/DME RWY 26, Amdt 1

Ellenville, NY, Joseph Y Resnick, Takeoff Minimums and Obstacle DP, Amdt 1

Elmira/Corning, NY, Elimira/Corning Rgnl, RNAV (GPS) RWY 10, Amdt 2

Elmira/Corning, NY, Elimira/Corning Rgnl, RNAV (GPS) RWY 28, Amdt 3

New York, NY, La Guardia, RNAV (GPS) RWY 31, Amdt 1A

Wellsboro, PA, Wellsboro Johnston, GPS RWY 28, Orig-A, CANCELED

Wellsboro, PA, Wellsboro Johnston, RNAV (GPS) RWY 10, Orig

Wellsboro, PA, Wellsboro Johnston, RNAV (GPS) RWY 28, Orig

Wellsboro, PA, Wellsboro Johnston, VOR-A, Amdt 6

Nashville, TN, Nashville Intl, RNAV (RNP) Z RWY 2C, Amdt 1

Nashville, TN, Nashville Intl, RNAV (RNP) Z RWY 20L, Amdt 1

Nashville, TN, Nashville Intl, RNAV (RNP) Z RWY 20R, Amdt 1

Richmond, VA, Chesterfield County, Takeoff Minimums and Obstacle DP, Amdt 3

Roanoke, VA, Roanoke Rgnl/Woodrum Field, ILS OR LOC RWY 34, Amdt 14

Roanoke, VA, Roanoke Rgnl/Woodrum Field, RNAV (GPS) RWY 6, Amdt 2

Ladysmith, WI, Rusk County, Takeoff Minimums and Obstacle DP, Amdt 1

[FR Doc. 2012-23554 Filed 9-28-12; 8:45 am]

BILLING CODE 4910-13-P